DEPARTMENT OF COMMERCE

International Trade Administration

[C-570-052]

Certain Hardwood Plywood Products From the People's Republic of China: Partial Rescission of 2017-2018 Countervailing Duty Administrative Review

AGENCY: Enforcement and Compliance, International Trade Administration, Department of Commerce.

SUMMARY: The Department of Commerce (Commerce) is partially rescinding the administrative review of the countervailing order on certain hardwood plywood products from the People's Republic of China for the period of review (POR), April 25, 2017, through December 31, 2018.

DATES: Applicable August 27, 2019.

FOR FURTHER INFORMATION CONTACT: Omar Qureshi, AD/CVD Operations, Office V, Enforcement and Compliance, International Trade Administration, U.S. Department of Commerce, 1401 Constitution Avenue NW, Washington, DC 20230; telephone 202.482.5307

SUPPLEMENTARY INFORMATION:

Background

On February 8, 2019, Commerce published in the Federal Register a notice of opportunity to request an administrative review of the CVD order on certain hardwood plywood products from the People's Republic of China (China).¹ On April 1, 2019, based on a timely requests for review,² Commerce published in the Federal Register a notice of initiation of an administrative review of the countervailing duty order on certain hardwood plywood products from China with respect to 59 companies, covering the POR.³

¹ See Antidumping or Countervailing Duty Order, Finding, or Suspended Investigation; Opportunity To Request Administrative Review, 84 FR 2816 (February 8, 2019).

² See Letter from Canusa Wood Products Ltd., “Administrative Review of the Countervailing Duty Order on Certain Hardwood Plywood Products from the People's Republic of China: Request for Review,” dated February 28, 2019; see Letter from Cha Trading LLC, “Certain Hardwood Plywood from the People's Republic of China: Request for Administrative Review,” dated February 28, 2019; see Letter from Concannon Corp., “Administrative Review of the Countervailing Duty Order on Certain Hardwood Plywood Products from the People's Republic of China: Request for Review,” dated February 28, 2019; see Letter from the Law Office of DeKieffer and Horgan, PLLC, “Hardwood Plywood Products from the People's Republic of China: Request for Administrative Review,” dated February 28, 2019; see Letter from the Law Offices of Husch Blackwell, “Certain Hardwood Plywood Products from China: Request for Administrative Review,” dated February 28, 2019; see Letter from Richmond International Forest Products LLC, “Administrative Review of the Countervailing Duty Order on Certain Hardwood Plywood Products from the People's Republic of China: Request for Review, dated February 28, 2019; see Letter from Sierra Forest Products Inc., “Administrative Review of the Countervailing Duty Order on Certain Hardwood Plywood Products from the People's Republic of China: Request for Review,” dated February 28, 2019; see Letter from Shandong Huaxin Jiasheng Wood Co., Ltd., “Certain Hardwood Plywood Products from the People's from the People's Republic of China: Request for Administrative Review,” dated February 28, 2019; see Letter from Taraca Pacific Inc., “Administrative Review of the Countervailing Duty Order on Certain Hardwood Plywood Products from the People's Republic of China: Request for Review,” dated February 28, 2019; see Letter from Vietnam Finewood Company Limited, “Hardwood Plywood Products from the People's Republic of China: Request for Administrative Review,” dated February 28, 2019; and see Letter from the Law Office of Husch Blackwell, “Certain Hardwood Plywood Products from China: Correction to Request for Administrative Review,” dated March 1, 2019.

³ See Initiation of Antidumping and Countervailing Duty Administrative Reviews, 84 FR 12200 (April 1, 2019); see also Initiation of Antidumping and Countervailing Duty Administrative Reviews, 84 FR 18777 (May 2, 2019).

Rescission of Review

From June 21, 2019, to July 25, 2019, multiple entities timely withdrew their request for administrative review.⁴ Pursuant to 19 CFR 351.213(d)(1), the Secretary will rescind and administrative review, in whole or in part, if the party that requested the review withdraws its request within 90 day of the date of publication of the notice of initiation of the requested review. Multiple entities requested reviews and timely withdrew their requests for review. As a result, Commerce is rescinding, in part, the administrative review of certain hardwood plywood products from China for the following 47 entities where a request for review was timely withdrawn: Anhui Hoda Wood Co., Ltd; Celtic Co., Ltd; Cosco Star International Co., Ltd.; Feixian Longteng Wood Co., Ltd.; Golder International Trade Co., Ltd.; Huainan Mengping Import and Export Co., Ltd; Jiangsu Top Point International Co., Ltd; Jiangsu Top Point International Co., Ltd.; Jiaxing Gsun Imp. & Exp. Co., Ltd.; Jiaxing Hengtong Wood Co., Ltd.; Lianyungang Yuantai International Trade Co., Ltd.; Linyi Chengen Import and Export Co., Ltd.; Linyi City Dongfang Jinxin Economic and Trade Co., Ltd. (a/k/a; Linyi City Dongfang Jinxjin Economic and Trade Co., Ltd.); Linyi Dahua Wood Co., Ltd.; Linyi Evergreen Wood Co., Ltd; Linyi Glary Plywood Co., Ltd.; Linyi Hengsheng Wood Industry Co., Ltd.; Linyi Huasheng Yongbin Wood Co., Ltd.; Linyi Jiahe Wood Industry Co., Ltd; Linyi Linhai Wood Co., Ltd.; Linyi Mingzhu Wood Co., Ltd; Linyi Sanfortune Wood Co., Ltd; Qingdao Good Faith Import and Export Co., Ltd; Shandong Dongfang Bayley Wood Co., Ltd; Shandong Jinluda International Trade Co., Ltd.; Shandong Qishan International Trading Co., Ltd.; Shandong Senmanqi Import & Export Co., Ltd.; Shandong Shengdi International Trading Co., Ltd.; Shanghai Brightwood Trading Co., Ltd.; Shanghai Futuwood Trading Co., Ltd.; Suining Pengxiang Wood Co., Ltd; Suqian Hopeway International Trade Co., Ltd; Suzhou Fengshuwan Import and Export Trade Co., Ltd. a/k/a Suzhou Fengshuwan I&E Trade Co., Ltd.; Sumec International Technology Co., Ltd; Suzhou Oriental Dragon Import and Export Co., Ltd; Vietnam Finewood Company Limited; Win Faith Trading Limited; Xuzhou Andefu Wood Co., Ltd.; Xuzhou DNT Commercial Co., Ltd.; Xuzhou Jiangheng Wood Products Co., Ltd.; Xuzhou Jiangyang Wood Industries Co., Ltd; Xuzhou Longyuan Wood Industry Co., Ltd.; XuZhou PinLin International Trade Co., Ltd.; Xuzhou Shengping Imp and Exp Co., Ltd.; Xuzhou Timber International Trade Co., Ltd.; and Yishui Zelin Wood Made Co., Ltd.

⁴ See Letter from Richmond International Forest Products LLC, ” Administrative Review of the Antidumping and Countervailing Duty Order on Plywood Products from the People's Republic of China: Withdrawal of Request for Review,” dated June 21, 2019; see Letter from Canusa Wood Products Ltd., “Administrative Review of the Antidumping and Countervailing Duty Order on Plywood Products from the People's Republic of China: Withdrawal of Requests for Review,” dated June 21, 2019; see Letter from Concannon Corp., “Administrative Review of the Antidumping and Countervailing Duty Order on Plywood Products from the People's Republic of China: Withdrawal of Request for Review,” dated June 21, 2019; see Letter from Sierra Forest Products Inc., “Administrative Review of the Antidumping and Countervailing Duty Order on Plywood Products from the People's Republic of China: Withdrawal of Request for Review,” dated June 21, 2019; see Letter from Concannon Corp., “Administrative Review of the Countervailing Duty Order on Plywood Products from the People's Republic of China: Withdrawal of Request for Review,” dated June 28, 2019; see Letter from Richmond International Forest Products LLC, “Administrative Review of the Countervailing Duty Order on Plywood Products from the People's Republic of China: Withdrawal of Requests for Review,” dated June 28, 2019; see Letter from Canusa Wood Products Ltd., “Administrative Review of the Countervailing Duty Order on Plywood Products from the People's Republic of China: Withdrawal of Request for Review,” dated June 28, 2019; Letter from the Law Offices of DeKieffer & Horgan, “Hardwood Plywood Products from the People's Republic of China: Withdrawal of Request for Administrative Review,” dated June 25, 2019; see Letter from Vietnam Finewood Company Limited, “Hardwood Plywood Products from the People's Republic of China: Withdrawal of Request for Administrative Review,” dated June 28, 2019; see Letter from Cosco Star International Co., Ltd., “Certain Hardwood Plywood Products from China: Withdrawal of Request for Administrative Review,” dated June 28, 2019; see Letter from Taraca Pacific Inc., “Administrative Review of the Antidumping and Countervailing Duty Order on Plywood Products from the People's Republic of China: Withdrawal of Request for Review,” dated June 28, 2019; see Letter from Richmond International Forest Products LLC, “Administrative Review of the Countervailing Duty Order on Plywood Products from the People's Republic of China: Withdrawal of Request for Review,” dated June 29, 2019; see Letter from Taraca Pacific Inc., “Administrative Review of the Countervailing Duty Order on Plywood Products from the People's Republic of China: Withdrawal of Request for Review,” dated July 1, 2019; see Letter from Richmond International Forest Products LLC, “Administrative Review of the Countervailing Duty Order on Plywood Products from the People's Republic of China: Withdrawal of Request for Review and Correction to June 21 Submission,” dated July 1, 2019; see Letter from Lianyungang Yuantai International Trade Co., Ltd., “Certain Hardwood Plywood Products from China: Withdrawal of Request for Administrative Review,” dated July 1, 2019; and see Letter from Linyi Dahua Wood Co., Ltd. (Linyi Dahua), “Certain Hardwood Plywood Products from China: Withdrawal from Administrative Review,” dated July 25, 2019. Linyi Dahua's withdrawal of review request was timely because it was submitted within 90 days of the corrected initiation notice that published on May 2, 2019, in which it was first listed as a company under review.

Assessment

We will instruct U.S. Customs and Border Protection (CBP) to assess countervailing duties on all appropriate entries. Commerce intends to issue appropriate assessment instructions to CBP 15 days after the publication of this notice.

Notifications

This notice serves as a final reminder to importers of their responsibility under 19 CFR 351.402(f)(2) to file a certificate regarding the reimbursement of countervailing duties prior to liquidation of the relevant entries during this review period. Failure to comply with this requirement could result in Commerce's presumption that reimbursement of the countervailing duties occurred and the subsequent assessment of doubled antidumping duties.

This notice also serves as a final reminder to parties subject to administrative protective order (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with sections 751(a)(1) and 777(i)(1) of the Tariff Act of 1930, as amended, and 19 CFR 351.213(d)(4).

Dated: August 22, 2019.
James Maeder,
Deputy Assistant Secretary for Antidumping and Countervailing Duty Operations.

[FR Doc. 2019-18440 Filed 8-26-19; 8:45 am]

BILLING CODE 3510-DS-P